DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law No. 104-13 (44 U.S.C. 3506(c)(2)(A)). Currently, the Community Development Financial Institutions Fund (the Fund) of the Department of the Treasury is soliciting comments concerning a voluntary information collection effort involving all Fund Programs. The specific information collection relates to the voluntary collection of narrative descriptions of projects financed by Fund awardees and allocatees in response to the public's request for better and more narrative information on impact and best practices associated with all of the Fund's Programs. The purpose is to more fully describe and record the innovative approaches community development financial institutions (CDFIs) and community development entities (CDEs) use in revitalizing communities and serving families. Fund awardees and allocatees will be invited to submit narratives on one or more projects that they believe demonstrate best practices or high impact. The project description may be for a project previously reported to the Fund through the Community Investment Impact System (CIIS) or for a new project that has not yet been reported in CIIS. The Fund plans to use the descriptions in Fund publications and on the Fund's Web site to highlight the work of its awardees and allocatees.

DATES: Written comments should be received on or before March 13, 2007 to be assured of consideration.

ADDRESSES: Direct all comments to Bob Ibanez, Financial and Program Analyst, Community Development Financial Institutions Fund, U.S. Department of the Treasury, 601 13th Street, NW., Suite 200 South, Washington, DC 20005, Facsimile Number (202) 622-7754.

FOR FURTHER INFORMATION CONTACT: A draft of the information collection may be obtained from the Fund's Web site at http://www.cdfifund.gov. Requests for additional information should be directed to Bob Ibanez, Financial and Program Analyst, Community Development Financial Institutions Fund, U.S. Department of the Treasury, 601 13th Street, NW., Suite 200 South, Washington, DC 20005, or by phone to (202) 927-6232.

SUPPLEMENTARY INFORMATION: Title: CDFI/CDE Project Profile Web Form.

Abstract: The voluntary collection of narrative descriptions of projects financed by Fund awardees and allocatees via the CDFI/CDE Project Profile Web Form is in response to the public's request for better and more narrative information on impact and best practices associated with all of the Fund's Programs. The purpose is to more fully describe and record the innovative approaches community development financial institutions (CDFIs) and community development entities (CDEs) use in revitalizing communities and serving families. Each best practice is generated by one or more of four CDFI Fund Programs:

1. Through the CDFI Program by directly investing in, supporting and training CDFIs that provide loans, investments, financial services and technical assistance to underserved populations and communities;

2. Through the New Markets Tax Credit (NMTC) Program by providing an allocation of tax credit authority to community development entities (CDEs) which enable them to attract investment from the private-sector and to reinvest these amounts in low-income communities;

3. Through the Bank Enterprise Award (BEA) Program by providing an incentive to banks to invest in their communities and in other CDFIs; and

4. Through the Native American CDFI Assistance (NACA) Program, by taking action to provide financial assistance, technical assistance, and training to Native CDFIs and other Native entities proposing to become or create Native CDFIs.

Current Actions: Currently designing and test marketing the CDFI/CDE Project Profile Web Form.

Type of review: New.

Affected Public: CDFIs and CDEs; including business or other for-profit institutions, nonprofit entities, and State, local and Tribal entities.

Estimated Number of Respondents: 100.

Estimated Annual Time per Respondent: 2.5 Hours.

Estimated Total Annual Burden Hours: 250 Hours.

Requests for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; and (d) ways to minimize the burden of the collection of information on respondents, including through the use of technology.

Authority: 12 U.S.C. 4703, 4703 note, 4704, 4706, 4707, 4717; 12 CFR part 1805; Consolidated Appropriations Act of 2001, Pub. L. No. 106-554; 31 U.S.C. 321.

Dated: January 4, 2007.
Peter Dugas,
Acting Director, Community Development Financial Institutions Fund.

[FR Doc. E7-354 Filed 1-11-07; 8:45 am]

BILLING CODE 4810-70-P